Title 3—

The President

Proclamation 8555 of September 3, 2010

Labor Day, 2010

By the President of the United States of America

A Proclamation

Working Americans are the foundation of our Nation’s continued economic success and prosperity. From constructing the first transcontinental railroad to shaping our city skylines, they have built our country and propelled it forward. Through great innovation and perseverance, our labor force has forged America as a land of limitless possibility and a leader in the global marketplace. On Labor Day, we honor the enduring values and immeasurable contributions of working men and women today and throughout our history.

As we recognize the contributions of the American workers who have built our country, we must continue to protect their vital role and that of organized labor in our national life. Workers have not always possessed the same rights and benefits many enjoy today. Over time, they have fought for and gained fairer pay, better benefits, and safer work environments. From the factory floors during the Industrial Revolution to the shopping aisles of today’s superstores, organized labor has provided millions of hard-working men and women with a voice in the workplace and an unprecedented path into our strong middle class. By advocating on behalf of our families, labor unions have helped advance the safe and equitable working conditions that every worker deserves.

Today, as we emerge from the worst recession since the Great Depression, far too many American workers remain without a job. With every work hour lost and every plant closure and layoff, families and communities struggle to make ends meet and face difficult decisions about how to stay afloat. Yet, in the face of this tremendous challenge, our workers have renewed their commitment to achieving the American dream by training and educating themselves for careers crucial to our long-term competitiveness. To rebuild our economy, my Administration is focusing on job training and investing in industries that cannot be outsourced. By focusing on recovery at home, we are saving or creating millions of jobs in America and supporting the working men and women who will drive our 21st-century economy. More remains to be done, but we have taken important steps forward toward recovery.

American workers have always been ready to roll up their sleeves, clock in, and earn an honest living. That steady determination is why I have confidence in the American economy and confidence that we can overcome the challenges we face. There is no greater example of our country’s resolve and resilience than that of our workers. As we celebrate Labor Day, we honor those who have advanced our Nation’s strength and prosperity—American workers.

NOW, THEREFORE, I, BARACK OBAMA, President of the United States of America, by virtue of the authority vested in me by the Constitution and the laws of the United States, do hereby proclaim September 6, 2010, as Labor Day. I call upon all public officials and people of the United States to observe this day with appropriate programs, ceremonies, and activities that acknowledge the tremendous contributions of working Americans and their families.

IN WITNESS WHEREOF, I have hereunto set my hand this third day of September, in the year of our Lord two thousand ten, and of the Independence of the United States of America the two hundred and thirty-fifth.

[FR Doc. 2010-22704

Filed 9-8-10; 11:15 am]

Billing code 3195-W0-P